SOCIAL SECURITY ADMINISTRATION

[Docket No. SSA 2019-0048]

National Disability Forum

AGENCY: Social Security Administration (SSA).

ACTION: Announcement of a National Disability Forum.

SUMMARY: We are announcing the fourteenth National Disability Forum. The purpose of this public forum is to obtain feedback from experts in their field on what impairments have a likelihood to improve. This forum will be moderated, and include up to five panelists presenting information on the topic. Additionally, there will be a combined question and answer session during which the panelists will address questions from those on site and received by email during the forum.

DATES: Tuesday December 3, 2019 from 1:00 p.m. to 3:00 p.m.

ADDRESSES: Meeting Location: Partnership for Public Service, 1100 New York Ave NW, Suite 200 East, Washington, DC 20005.

Accommodations: Sign language interpreters, microphones, and materials in Braille, large print, and electronic formats will be available. The facility is wheelchair accessible. Anyone needing other accommodations should include a specific request when registering in advance.at: https://www.ssa.gov/ndf/.

FOR FURTHER INFORMATION CONTACT: James Edrington, NDF Team Lead, Office of Medical Assistance, Social Security Administration, 4539 Annex, 6401 Security Boulevard, Baltimore, MD 21235-6401, Telephone: (410) 966-2153, or send

SUPPLEMENTARY INFORMATION: The National Disability Forum is an open forum hosted by Social Security that gives all interested stakeholders an opportunity to share their unique insights on topics of particular interest to SSA early in the rulemaking process. The activities under the National Disability Forum supplement, but do not replace, the rule-making process followed by SSA under the Administrative Procedure Act.

These Forums serve as listening sessions, and bring public awareness to disability and retirement policy among stakeholders. Through these forums, we gain insight into how our policy affects the disability and retirement communities we serve, and the potential impact our policies may have in the future.

For more information, please visit our website at: https://www.ssa.gov/ndf/.

Mark Warshawsky,
Deputy Commissioner, Office of Retirement and Disability Policy.

[FR Doc. 2019-24833 Filed 11-14-19; 8:45 am]

BILLING CODE P